DEPARTMENT OF LABOR

Employment and Training Administration

Agency Information Collection Activities: Proposed Information Collection Request for the Evaluation of the Access Point Initiative

AGENCY: Employment and Training Administration.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the collection of data about the Access Point Initiative.

A copy of the proposed information collection request (ICR) can be obtained by contacting the office listed below in the addressee section of this notice.

DATES: Written comments must be submitted to the office listed in the ADDRESSES section below on or before September 8, 2009.

ADDRESSES: Submit written comments to Kevin Thompson, Room S-4231, Employment and Training Administration, 200 Constitution Avenue NW., Washington, DC 20210. Telephone number: 202-693-2925 (this is not a toll-free number). Fax: 202-693-3015; or by e-mail at Thompson.Kevin@dol.gov.

SUPPLEMENTARY INFORMATION: I. Background: This information collection is intended to collect data with which to evaluate the ETA's Access Point Initiative. Access Points are employment information centers and satellites to DOL-funded One Stop Career Centers. While One Stop Centers provide employment-related services to a large number and wide array of job seekers, some of the individuals on the margins of the labor market, such as high school dropouts, ex-offenders, and persons with low occupational skill levels in high-poverty neighborhoods, have still not been reached by the One Stop system. To reach them and to provide them with employment services in a cost-effective manner, the Department of Labor started the Access Point initiative, providing funds for training in how to establish Access Points. Access Points are set up and run by local Faith-Based and Community Organizations (FBCOs) as a volunteer effort. They are located in areas that include a relatively large number of unemployed individuals with few of the resources needed to find stable employment. Access Points provide job seekers from their neighborhoods with job-search information, some services, and referrals to One Stops and other service providers.

A two-stage training process is used to establish Access Points: First, contractors train local coordinators (called SHARE Network coordinators); and second, the SHARE Network coordinators train FBCO personnel in how to establish and run Access Points. SHARE Networks are statewide computerized networks that provide employment-related information at the local level. SHARE Networks include non-profit FBCOs (including all Access Points), for-profit organizations, and government agencies that provide employment services and choose to participate in the network.

Three related surveys are proposed to collect data for an evaluation report to ETA:

(1) A SHARE Network Coordinator Survey that assesses training received and relations with Access Points;

(2) An Access Point POC (Point-of-Contact) Survey that provides data on the implementation and functioning of Access Points; and

(3) A One Stop Director Survey that provides an assessment of Access Points and their relation to the local workforce system.

These three surveys are electronic and will be conducted via E-mail and a link to a centralized server.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: New collection.

Agency: Employment and Training Administration.

Title: Evaluation of the Access Point Initiative.

OMB Number: 1205-0NEW.

Affected Public: Not-for-profit institutions; State, local, or tribal government.

Form: None.

Total Respondents: Exhibit 1 shows the annual number of respondents for all three surveys, together with the anticipated response rate, the average time required to complete each survey, the cost per respondent per survey, and the total cost per survey. The time estimates and hourly costs are derived from pretests with nine respondents for each survey. All three surveys are population surveys; statistical sampling will not be used.

Exhibit 1—Access Point Evaluation Respondents, Burden Hours, and Cost for Three Surveys
Survey | Population | Response rates percent | Total respondents | Hours per response | Total hours | Pay rate | Total cost
SHARE Network Coordinators* | 230 | 75 | 173 | 0.17 | 29 | $20.00 | $587
Access Point POCs* | 300 | 75 | 225 | 0.28 | 63 | 19.00 | 1,197
One Stop Center Directors* | 80 | 75 | 60 | 0.1 | 6 | 36.00 | 216
* One-time surveys.

The SHARE Network Coordinator, Access Point POC, and One Stop Director Surveys are one-time 2009 data collections. The total population to be surveyed is therefore 230 + 300 + 80 = 610.

The total hours requested: 98.

Frequency: Three one-time surveys are to be administered in 2009—the SHARE Network Coordinator, Access Point POC, and One Stop Director Surveys.

Total Responses: 458.

Average Time per Response, based on pretests: Access Point POC Survey—17 minutes (0.28 hours) SHARE Network Coordinator Survey—10 minutes (0.17 hours) One Stop Director Survey—6 minutes (0.10 hours)

Estimated Total Burden Hours: 98.

Total Burden Cost (operating/maintaining): Per-hour costs are estimated from pretest survey data as follows: SHARE Network Coordinator $20/hr.; Access Point POCs $19/hr; One Stop Center Director $36/hr. Access Point customers are unemployed but are assigned a minimum-wage cost of $7.25/hr., which takes effect in July, 2009. The costs for 2009 are:

SHARE Network Coordinator Survey | $587
Access Point POC Survey | 1197
One Stop Director Survey | 216
Total | 2000

Comments submitted in response to this comment request will be summarized and/or included in the request for Office of Management and Budget approval of the information collection request; they will also become a matter of public record.

Dated: At Washington, DC on June 30, 2009.
Gay M. Gilbert,
Administrator, Office of Workforce Investment, Employment and Training Administration.

[FR Doc. E9-16047 Filed 7-7-09; 8:45 am]

BILLING CODE 4510-30-P